FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ABF Global Supply Chain, Inc. (NVO), 3801 Old Greenwood Road, Fort Smith, AR 72903. Officers: Carlos Martinez-Tomatis, Division Vice President (QI); Judy R. McReynolds, President. Application Type: New NVO License.

Action Cargo Transport Inc. (NVO), Carretera 848 KM 3.2, Carolina, PR 00983. Officer: Jose E. Del Cueto, President (QI). Application Type: New NVO License.

AIT Ocean Systems, Inc. (NVO), 701 W. Rohlwing Road, Itasca, IL 60143. Officers: Hessel B. Verhage, Vice President (QI); Daniel F. Lisowski, President. Application Type: Name Change to D&S Oceans, Inc.

AIT Ocean Systems Inc. (NVO), 701 W. Rohlwing Road, Itasca, IL 60143. Officers: Hessel B. Verhage, Vice President (QI); Vaughn Moore, President. Application Type: New NVO License.

Alva Freight International, Inc. (NVO & OFF), 7878 NW 46th Street, Doral, FL 33166. Officers: Melissa Agudelo, Vice President (QI); Antonio Rodrigues, President, Application Type: New NVO & OFF License.

Amerifreight (N.A.), Inc. dba Freight Team dba iGlobal US (NVO & OFF), 15930 Valley Blvd., City of Industry, CA 91744. Officer: James Lin, President (QI). Application Type: QI Change.

Areva Inc. (OFF), 7207 IBM Drive, Charlotte, NC 28262. Officers: Michael P. Valenzano, Director, Transportation (QI); Luc Oursel, Chairman. Application Type: New OFF License.

Avenue 8 Group Inc dba Avenue International (NVO & OFF), 573 Monterey Pass Road, Suite A, Monterey Park, CA 91754. Officers: Ryan Luu, President (QI); Linda Thong, Secretary. Application Type: QI Change.

Axxess International, Inc. (NVO & OFF), 2 North Main Street, Fourth Floor, St. Albans, VT 05478. Officers: Charles F. McFeeters, Jr., Vice President (QI); Richard Gervais, President. Application Type: New NVO & OFF License.

BVH Cargo International, LLC (OFF), 3634 Lakearies Lane, Katy, TX 77449. Officers: Suzanne Rousselle, Member (QI); Anthony Turner, Member. Application Type: New OFF License.

Central Auto Trading LLC (OFF), 400 Chapel Road, 1-J, South Windsor, CT 06074. Officers: Melissa Pezzuti, Executive Manager (QI); William Ezedine, Chief Executive Manager. Application Type: New OFF License.

Crown Worldwide Moving & Storage LLC dba Crown Worldwide Moving & Storage Company (NVO & OFF), 14826 Wicks Blvd., San Leandro, CA 94577. Officers: Salvatore P. Ferrante, President (QI); Robert S. Bowen, CEO, Application Type: New NVO & OFF License.

Cybamar USA, LLC (OFF), 12130 Dixie Street, Suite A, Redford, MI 48239. Officers: Samar Hazime, Manager (QI); Hassan Salhab, Manager. Application Type: Name Change to World Logistics, LLC dba World Logistics.

CYCL Solutions Inc. (NVO & OFF), 1438 East 7th Street, Brooklyn, NY 11230. Officers: Alan A. Cohen, President (QI); Rosie Cohen, Vice President. Application Type: New NVO & OFF License.

Del Corona & Scardigli USA Inc. (OFF), 15 W. 36th Street, 11th Floor, New York, NY 10018. Officers: Stefano D'Angelo, CEO (QI); Luigi Delcorona, President. Application Type: New OFF License.

Diamond Logistics Services, Inc. (NVO & OFF), 4761 NW 72nd Avenue, Miami, FL 33166. Officer: Alma J. Rojas, President (QI). Application Type: New NVO & OFF License.

Dimerco Express (U.S.A.) Corp. (NVO & OFF), 955 Dillon Drive, Wood Dale, IL 60191. Officers: Roy D. Chen, President (QI); Cathy Chou, Secretary. Application Type: QI Change.

E-Cargoway Logistics USA, Inc. (NVO & OFF), 1515 Kona Drive, Compton, CA 90220. Officers: Myeong H. Kim, President (QI); Won Rok Choi, CFO. Application Type: QI Change.

Express Logistics Services, LLC (NVO & OFF), 4600 NW 74th Avenue, Miami, FL 33166. Officers: Alejandra I. Cavalieri, Manager (QI); Carlos Novoa, Managing Member. Application Type: New NVO & OFF License.

Forever Trading LLC (NVO & OFF), 16270 SW 91st Terrace, Miami, FL 33196. Officer: Gladys O. Barrios, Managing Member (QI). Application Type: New NVO & OFF License.

Foytt International LLC dba Foytt dba Foytt International (NVO & OFF), 2637 El Presidio Street, Carson, CA 90810. Officers: Stephen J. Otis, Manager (QI); Peter Tate, President. Application Type: New NVO & OFF License.

Gateway Logistics Inc. (NVO & OFF), 1489 W. Palmeto Park Road, Suite 332, Boca Raton, FL 33486. Officers: Paul Gousgounis, President (QI); Donald Keiber, Secretary. Application Type: New NVO & OFF License.

Global Freight Forwarders Inc. (NVO & OFF), 15 Oak Street, Needham, MA 02492. Officers: John M. Rooney, Vice President (QI); Todd R. Peters, President. Application Type: Transfer to Genco Transportation Management LLC.

GTS Cargo, Inc. (NVO & OFF), 1760 NW 94th Avenue, Miami, FL 33172. Officers: Olga Valdes, Chief Office Secretary (QI); Erick Severi Cicala, President. Application Type: QI Change.

Harvest Logistics, LLC (NVO & OFF), 2441 Porter Street, Los Angeles, CA 90021. Officers: Aurora Banuelos, Member/Manager (QI); Karla Costilla, Member/Manager. Application Type: Add OFF Service.

IContainers (USA) Inc. (NVO & OFF), 1444 Biscayne Blvd., Suite 208-35, Miami, FL 33132. Officers: Paola Maingon, Vice President (QI); Carlos Hernandez, President. Application Type: New NVO & OFF License.

Investment Logistic Solution Corp (NVO & OFF), 6701 NW 7th Street, Miami, FL 33126. Officers: Enid J. Gonzalez, President (QI); Carlos L. Michel, Vice President, Application Type: QI Change.

Jade International, Inc. (OFF), Folcroft W. Business Park, 102 Georgetown Building, Folcroft, PA 19032. Officers: Brian W. Lockrey, Vice President Export (QI); James C. Diegel, President. Application Type: QI Change.

Kaisen Logistics Inc (OFF), 6600 Queens Midtown Expressway, Suite 303, Maspeth, NY 11378. Officers: YunQin Chen, President (QI); Hang Pan, Vice, President. Application Type: New OFF License.

Kingz International Logistics Inc (OFF), 415 S. Yale Drive, Garland, TX 75042. Officer: Temitope Olojede, CEO (QI). Application Type: New OFF License.

K-Link Logistics Inc. (NVO), 9471 Cortada Street, Suite #G, El Monte, CA 91733. Officer: Linh Vien, CEO (QI). Application Type: New NVO License.

Ly Global Inc. dba E-Line USA (NVO), 145-69 226th Street, Springfield Gardens, NY 11413. Officers: Hyun J. Kim, Secretary (QI); Eun J. Yang, President. Application Type: New NVO License.

MLX Services, LLC. (NVO & OFF), 2555 NW 102nd Avenue, Suite 205, Doral, FL 33172. Officers: Juan C. Esquivel, Managing Member (QI); Nancy M. Esquivel, Managing Member. Application Type: New NVO & OFF License.

North Star Container, LLC dba NS World Logistics (NVO & OFF), 7400 Metro Blvd. #300, Edina, MN 55439. Officers: Guohe Mao, President (QI); Daniel Newell, Partner. Application Type: Additional QI.

Pacific Global Logistics, Inc. (NVO & OFF), 1500 Pumphrey Avenue, Suite 105-106, Auburn, AL 36832. Officers: Hyung Tae Kim, COO (QI); Kee Tai Choi, CEO. Application Type: Add Trade Name Pactra USA.

Pinnacle Global Logistics (USA) Inc. (NVO & OFF), 19300 Hamilton Avenue, Suite 292, Gardena, CA 90248. Officers: Sunny S. Lee, Secretary (QI); Zheng Chen, CEO. Application Type: New NVO & OFF License.

Prime Logistics, Inc. (NVO), 9102 Westpark Drive, Houston, TX 77063. Officers: Susan Wong, Treasurer (QI); Richard Tsai, President. Application Type: New NVO License.

PSP Logistics, Inc. (NVO), 1370 East Higgins Road, Elk Grove Village, IL 60007. Officers: Young Kyu Park, President (QI); Jay Song, Secretary. Application Type: New NVO License.

RL Logix LLC (NVO & OFF), 2387 Indigo Harbour Lane, League City, TX 77573. Officer: Reina Louden, Member (QI). Application Type: New NVO & OFF License.

RS Shipping, Inc. (NVO), 525 S. San Gabriel Boulevard, San Gabriel, CA 91776. Officer: Xue (a.k.a. Shanna) J. Zhou, President QI. Application Type: New NVO License.

SG Sagawa USA, Inc. (NVO & OFF), 16927 S. Main Street, Unit A, Carson, CA 90248. Officers: Taketo Nakamatsu, Corporate Secretary (QI); Tomonari Niimoto, President. Application Type: New NVO & OFF License.

S-Logibis USA Inc. (NVO & OFF), 451 E. Carson Plaza Drive, Suite 206, Carson, CA 90746. Officers: Yun Chul Hwang, Treasurer (QI); Jae Sung Choi, President. Application Type: New NVO & OFF License.

SR International Logistics, Inc. dba High Country Maritime (NVO & OFF), 2525 16th Street, Suite 208, Denver, CO 80211. Officer: David O. Ross, President (QI). Application Type: QI Change.

Sunjin Shipping (U.S.A.), Inc. (NVO & OFF), 145-30 156th Street, Jamaica, NY 11434. Officers: Key Y. Chung, President (QI); Keepil Chung, Secretary. Application Type: Add NVO Service.

Trust Freight, Inc. (OFF), 9383 NW 13th Street, Miami, FL 33172. Officers: Patricia A. Elliott, Secretary (QI); Esmat M. Saab, President. Application Type: New OFF License.

UFS Logistics, Inc. (NVO & OFF), 201 N. Corona Avenue, Suite 101, Ontario, CA 91761. Officers: Mitchell Chang, Vice President (QI); Lloyd Liang, CEO, Application Type: New NVO & OFF License.

Valley Worldwide Logistics Solutions, LLC (NVO & OFF), 3911 37th Avenue SW, Fargo, ND 58104. Officers: Prince F. Asemota, Vice President (QI); Merle H. Jegtvig, Chief Manager. Application Type: New NVO & OFF License.

Viking International Inc. (NVO), 115 Meacham Avenue, Elmont, NY 11003. Officers: John J. Hanczor, Sr., Secretary (QI); John J. Hanczor, President. Application Type: New NVO License.

World Cargo Service, Inc. (NVO), 6905 NW 73 Court, Miami, FL 33166. Officers: Felipe Zambrano, Vice President (QI); Constanza Astudillo, President. Application Type: QI Change.

Dated: May 9, 2014.
Rachel E. Dickon,
Assistant Secretary.

[FR Doc. 2014-11062 Filed 5-13-14; 8:45 am]

BILLING CODE 6730-01-P